DEPARTMENT OF COMMERCE

[I.D. 051104C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Antarctic Living Marine Resources Conservation and Management Measures.

Form Number(s): None.

OMB Approval Number: 0648-0194.

Type of Request: Regular submission.

Burden Hours: 563.

Number of Respondents: 87.

Average Hours Per Response: 15 minutes for a dealer permit application or a reexport permit application; 3 minutes for a dealer catch document; 15 minutes for a dealer reexport catch documentation; 15 minutes for a harvesting vessel catch document; 15 minutes for a pre-approval application for toothfish imports; 15 minutes for an import ticket; 0.33 seconds for an automatic position report from a Vessel Monitoring System (VMS); 4 hours to install a VMS; 2 hours for annual maintenance of a VMS; 28 hours for an application for a new or exploratory fishery; 1 hour for an application to harvest/transship; 2 minutes for a radioed position report; 1 hour for an application for a CCAMLR Ecosystem Monitoring Program permit; and 1 hour for a CCAMLR Ecosystem Monitoring Program site activity report.

Needs and Uses: This collection of information concerns the harvesting and importation of Antarctic Marine Living Resources from waters regulated by the Commission for the Conservation of Antarctic Marine Living Resources (CCAMLR). The reporting requirements included in this collection relate to CCAMLR Ecosystem Monitoring Program (CEMP) activities, U.S. harvesting permit applications and/or harvesting vessel operators, as well as importers and re-exporters Antarctic Marine Living Resources. The collection is necessary in order for the United States to meet its treaty obligations as a contracting party to the Convention for the Conservation of Antarctic Marine Living Resources.

Affected Public: Business or other for-profit organizations, and individuals or households.

Frequency: On occasion; annually; 6 times daily.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, fax number 202-395-7285, or David_Rostker@omb.eop.gov.

Dated: May 11, 2004.
Gwellnar Banks,
Management Analyst, Office of the Chief Information Officer.

[FR Doc. 04-11158 Filed 5-14-04; 8:45 am]

BILLING CODE 3510-22-S